NUCLEAR REGULATORY COMMISSION

[NRC-2024-0212]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person

DATES: Comments must be filed by January 22, 2025. A request for a hearing or petitions for leave to intervene must be filed by February 21, 2025. This monthly notice includes all amendments issued, or proposed to be issued from November 7, 2024, to December 5, 2024. The last monthly notice was published on November 25, 2024.

ADDRESSES: You may submit comments by any of the following methods however, the NRC encourages electronic comment submission through the Federal rulemaking website.

• Federal rulemaking website: Go to https://www.regulations.gov and search for Docket ID NRC-2024-0212. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411; email: Shirley.Rohrer@nrc.gov.

SUPPLEMENTARY INFORMATION:

I. Obtaining Information and Submitting Comments

A. Obtaining Information

Please refer to Docket ID NRC-2024-0212, facility name, unit number(s), docket number(s), application date, and subject when contacting the NRC about the availability of information for this action. You may obtain publicly available information related to this action by any of the following methods:

• Federal Rulemaking Website: Go to https://www.regulations.gov and search for Docket ID NRC-2024-0212.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0212, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m., ET, on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Omaha Public Power District; Fort Calhoun Station, Unit No. 1; Washington County, NE
Docket No | 50-285.
Application date | June 18, 2024, as supplemented by letter dated October 2, 2024.
ADAMS Accession No | ML24177A132, ML24276A217.
Location in Application of NSHC | Pages 9-10 of Attachment 1.
Brief Description of Amendment | The proposed amendment would revise the approved License Termination Plan (LTP) by revising the dose calculation for the auxiliary building basement, the requirements for remediation, and the survey methodologies in the LTP.
Proposed Determination | NSHC.
Name of Attorney for Licensee, Mailing Address | Stephen M. Bruckner, Attorney, Fraser Stryker PC LLO, 500 Energy Plaza, 409 South 17th Street, Omaha, NE 68102.
NRC Project Manager, Telephone Number | Jack Parrott, 301-415-6634.
Constellation Energy Generation, LLC; Limerick Generating Station, Units 1 and 2; Montgomery County, PA
Docket No(s) | 50-352, 50-353.
Application date | August 28, 2024, as supplemented by letter dated October 25, 2024.
ADAMS Accession No | ML24241A195, ML24299A264.
Location in Application of NSHC | Pages 6-8 of attachment 1.
Brief Description of Amendment(s) | The proposed amendments would modify the technical specifications (TSs) regarding the main steam isolation valve (MSIV) system leakage rate requirements. Currently, the TSs require verification of the leak rate through each MSIV. This amendment would change the local leak rate testing to verify leak rates through each main steam line. The amendment also includes editorial changes for expired footnotes.
Proposed Determination | NSHC.
Name of Attorney for Licensee, Mailing Address | Jason Zorn, Associate General Counsel, Constellation Energy Generation, LLC, 101 Constitution Ave. NW, Suite 400 East, Washington, DC 20001.
NRC Project Manager, Telephone Number | Rachael Davis, 301-415-0805.
Entergy Operations, Inc.; Arkansas Nuclear One, Unit 1; Pope County, AR
Docket No | 50-313.
Application date | July 2, 2024.
ADAMS Accession No | ML24184B775.
Location in Application of NSHC | Pages 12-14 of the Enclosure.
Brief Description of Amendment | The proposed amendment would modify the Arkansas Nuclear One, Unit 1 (ANO-1) Safety Analysis Report and the Confirmatory Order dated January 2, 1980 (ML021220215), to implement all “Category A” lessons learned requirements by January 31, 1980, for ANO-1. The proposed changes would address manual actions outside the control room to restore emergency power to the pressurizer heaters. These actions are required due to the plant's design.
Proposed Determination | NSHC.
Name of Attorney for Licensee, Mailing Address | Susan Raimo, Associate General Counsel—Nuclear, 101 Constitution Avenue NW, Washington, DC 20001.
NRC Project Manager, Telephone Number | Mahesh Chawla, 301-415-8371.
Florida Power & Light Company, et al.; St. Lucie Plant, Unit Nos. 1 and 2; St. Lucie County, FL; Florida Power & Light Company; Turkey Point Nuclear Generating Unit Nos. 3 and 4; Miami-Dade County, FL; NextEra Energy Point Beach, LLC; Point Beach Nuclear Plant, Units 1 and 2; Manitowoc County, WI
Docket No(s) | 50-250, 50-251, 50-335, 50-389, 50-266, 50-301.
Application date | October 8, 2024.
ADAMS Accession No | ML24282A904.
Location in Application of NSHC | Pages 5-7 of Enclosure 1.
Brief Description of Amendment(s) | The proposed amendments would revise the technical specifications for Point Beach Nuclear Plant, Units 1 and 2, St. Lucie, Units 1 and 2, and Turkey Point, Units 3 and 4, to relocate the staff qualification requirements to the Florida Power and Light Company and NextEra Energy quality assurance topical report.
Proposed Determination | NSHC.
Name of Attorney for Licensee, Mailing Address | Steven Hamrick, Senior Attorney 801 Pennsylvania Ave. NW, Suite 220, Washington, DC 20004.
NRC Project Manager, Telephone Number | Michael L. Marshall, Jr., 301-415-2871.
Northern States Power Company; Monticello Nuclear Generating Plant; Wright County, MN
Docket No | 50-263.
Application date | September 26, 2024.
ADAMS Accession No | ML24270A102.
Location in Application of NSHC | Pages 3-4 to Enclosure.
Brief Description of Amendment | The proposed amendment would adopt Technical Specifications Task Force Traveler-554, Revision 1, “Revise Reactor Coolant Leakage Requirements,” which is an approved change to the Standard Technical Specifications, into the Monticello Nuclear Generating Plant Technical Specifications.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Northern States Power Company; Prairie Island Nuclear Generating Plant, Units 1 and 2; Goodhue County, MN
Docket No(s) | 50-282, 50-306.
Application date | October 21, 2024.
ADAMS Accession No | ML24297A403.
Location in Application of NSHC | Pages 1-3 to Enclosure.
Brief Description of Amendment(s) | The proposed amendments would modify the Prairie Island Nuclear Generating Plant, Units 1 and 2, technical specifications (TSs) to adopt Technical Specifications Task Force (TSTF)-591, “Revise Risk Informed Completion Time (RICT) Program.” TSTF-591 revises TS section 5.5 program, “Risk Informed Completion Time Program,” to reference Regulatory Guide 1.200, Revision 3, instead of Revision 2, and to make other changes. Also, a new report would be added to TS section 5.6 “Reporting Requirements,” to inform the NRC of newly developed methods used to calculate a RICT.
Proposed Determination | NSHC.
Name of Attorney for Licensee, Mailing Address | Peter M. Glass, Assistant General Counsel, Xcel Energy, 414 Nicollet Mall—401-8, Minneapolis, MN 55401.
NRC Project Manager, Telephone Number | Brent Ballard, 301-415-0680.
Southern Nuclear Operating Company, Inc.; Vogtle Electric Generating Plant, Units 3 and 4; Burke County, GA
Docket No(s) | 52-025, 52-026.
Application date | November 1, 2024.
ADAMS Accession No | ML24306A131.
Location in Application of NSHC | Pages E-6 through E-8 of the Enclosure.
Brief Description of Amendment(s) | The proposed amendments would modify Vogtle Electric Generating Plant, Units 3 and 4, Combined Operating Licenses to remove the Mode 2 applicability for the Source Range Neutron Flux Doubling instrumentation as required by Technical Specification 3.3.8, “Engineered Safety Feature Actuation System (ESFAS) Instrumentation,” Table 3.3.8-1, Function 17, in addition to making an administrative change on Table 3.3.8-1.
Proposed Determination | NSHC.
Name of Attorney for Licensee, Mailing Address | Millicent Ronnlund, Vice President and General Counsel, Southern Nuclear Operating Co., Inc., P.O. Box 1295, Birmingham, AL 35201-1295.
NRC Project Manager, Telephone Number | Zachary Turner 415-6303.
Tennessee Valley Authority; Sequoyah Nuclear Plant, Units 1 and 2; Hamilton County, TN
Docket No(s) | 50-327, 50-328.
Application date | November 26, 2024.
ADAMS Accession No | ML24331A178.
Location in Application of NSHC | Pages 9-10 to Enclosure.
Brief Description of Amendment(s) | The proposed amendments would revise Technical Specification Surveillance Requirement 3.4.14.1, “Reactor Coolant System (RCS) Pressure Isolation Valve (PIV) Leakage,” to only reference the Inservice Testing Program for the Frequency.
Proposed Determination | NSHC.
Name of Attorney for Licensee, Mailing Address | David Fountain, Executive VP and General Counsel, Tennessee Valley Authority, 400 West Summit Hill Drive, WT 6A-K, Knoxville, TN 37902.
NRC Project Manager, Telephone Number | Perry Buckberg, 301-415-1383.
Wolf Creek Nuclear Operating Corporation; Wolf Creek Generating Station, Unit 1; Coffey County, KS
Docket No | 50-482.
Application date | December 2, 2024.
ADAMS Accession No | ML24337A123.
Location in Application of NSHC | Pages 5-6 of Attachment I.
Brief Description of Amendment | The proposed amendment would provide an additional year for implementation of License Amendment No. 237, which allows the use of portable lighting in the fire protection program.
Proposed Determination | NSHC.
Name of Attorney for Licensee, Mailing Address | Chris Johnson, Corporate Counsel Director, Evergy, One Kansas City Place, 1KC-Missouri HQ 16, 1200 Main Street, Kansas City, MO 64105.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Limerick Generating Station, Units 1 and 2; Montgomery County, PA
Docket No(s) | 50-352, 50-353.
Amendment Date | October 31, 2024.
ADAMS Accession No | ML24151A384.
Amendment No(s) | 264 (Unit 1), 226 (Unit 2).
Brief Description of Amendment(s) | The amendments made changes to technical specifications (TSs) related to postulated accidents during cold shutdown and refueling operations and made temporary changes to the TSs related to anticipated transients without scram mitigation systems during power production operation for a period of 30 days.
Public Comments Received as to Proposed NSHC (Yes/No) | No.
Constellation FitzPatrick, LLC and Constellation Energy Generation, LLC; James A. FitzPatrick Nuclear Power Plant; Oswego County, NY
Docket No | 50-333.
Amendment Date | November 19, 2024.
ADAMS Accession No | ML24313A147.
Amendment No) | 358.
Brief Description of Amendment | The amendment revised Technical Specification 3.3.2.1, “Control Rod Block Instrumentation,” Required Action C.2.1.2 to temporarily permit reactor startup with the rod worth minimizer inoperable while compensatory measures are implemented. This temporary allowance expires December 31, 2024.
Public Comments Received as to Proposed NSHC (Yes/No) | No.
Dominion Energy Nuclear Connecticut, Inc.; Millstone Power Station, Unit No. 3; New London County, CT
Docket No) | 50-423.
Amendment Date | November 19, 2024.
ADAMS Accession No | ML24296B235.
Amendment No | 291.
Brief Description of Amendment | The amendment revised the Millstone Power Station (MPS3), Unit 3, technical specifications (TSs) to support the implementation of Framatome GAIA fuel, which is currently scheduled for insertion into the MPS3 reactor during the spring 2025 refueling outage. Specifically, the TS changes include updating the reactor core safety limits (TS 2.1.1.1), reducing the Reactor Trip System Instrumentation Trip Setpoint for the P-8 Interlock (TS table 2.2-1, Item 18.c), and adding to the list of approved methodologies for the Core Operating Limits Report (TS 6.9.1.6.b). Additionally, the amendment approves mixed-core departure from nucleate boiling (DNB) penalties for application to retained DNB margin, the use of design basis limits for a fission product barrier associated with MPS3, and specific application of methods needed to support GAIA fuel implementation.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Waterford Steam Electric Station, Unit 3; St. Charles Parish, LA
Docket No(s) | 50-416, 50-458, 50-382.
Amendment Date | November 8, 2024.
ADAMS Accession No | ML24289A031.
Amendment No(s) | 236 (Grand Gulf), 216 (River Bend), and 272 (Waterford 3).
Brief Description of Amendment(s) | The amendments removed License Condition 2.F, which requires Grand Gulf Nuclear Station, Unit 1; River Bend Station, Unit 1; and Waterford Steam Electric Station, Unit 3 to report certain violations of Renewed Facility Operating License Section 2.C within 24 hours to the NRC Operations Center via the emergency notification system with a written follow-up at a later date. This change is consistent with the notice published in the Federal Register on November 4, 2005 (70 FR 67202), as part of the consolidated line-item improvement process.
Public Comments Received as to Proposed NSHC (Yes/No) | No.
Nebraska Public Power District; Cooper Nuclear Station; Nemaha County, NE
Docket No | 50-298.
Amendment Date | November 25, 2024.
ADAMS Accession No | ML24289A233.
Amendment No | 279.
Brief Description of Amendment | The amendment revised the allowable value for Cooper Nuclear Station Technical Specification (TS) 3.3.5.1, “Emergency Core Cooling System (ECCS) Instrumentation,” table 3.3.5.1-1, “Emergency Core Cooling System Instrumentation,” function 3.f, “High Pressure Coolant Injection Pump Discharge Flow—Low (Bypass),” from greater than or equal to (≥) 490 gallons per minute (gpm) to ≥523 gpm.
Public Comments Received as to Proposed NSHC (Yes/No) | No.
NextEra Energy Point Beach, LLC; Point Beach Nuclear Plant, Units 1 and 2; Manitowoc County, WI
Docket No(s) | 50-266, 50-301.
Amendment Date | November 21, 2024.
ADAMS Accession No | ML24303A340.
Amendment No(s) | 275 (Unit 1); 277 (Unit 2).
Brief Description of Amendment(s) | The amendments revised Technical Specification (TS) 3.6.5, “Containment Air Temperature,” by specifying a single containment average air temperature limit and deleting current TS limiting condition for operation 3.6.5a, 3.6.5b, and 3.6.5c.
Public Comments Received as to Proposed NSHC (Yes/No) | No.

Dated: December 18, 2024.
For the Nuclear Regulatory Commission.
Jamie Pelton,
Acting Director, Division of Operating Reactor Licensing, Office of Nuclear Reactor Regulation.

[FR Doc. 2024-30551 Filed 12-20-24; 8:45 am]

BILLING CODE 7590-01-P